DEPARTMENT OF THE INTERIOR

Bureau of Land Management

[NV-952-06-1420-BJ]

Filing of Plats of Survey; Nevada

AGENCY: Bureau of Land Management.

ACTION: Notice.

SUMMARY: The purpose of this notice is to inform the public and interested State and local government officials of the filing of Plats of Survey in Nevada.

Effective Dates: Filing is effective at 10 a.m. on the dates indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Supplemental Plats of the following described lands were officially filed at the Nevada State Office, Reno, Nevada, on November 15, 2005: The supplemental plat, showing amended lottings in section 15, Township 19 South, Range 61 East, Mount Diablo Meridian, Nevada, was accepted November 14, 2005. The supplemental plat, showing amended lottings in section 16, Township 19 South, Range 61 East, Mount Diablo Meridian, Nevada, was accepted November 14, 2005. These supplemental plats were prepared to meet certain administrative needs of the Bureau of Land Management.

2. The above-listed surveys are now the basic record for describing the lands for all authorized purposes. These surveys have been placed in the open files in the BLM Nevada State Office and are available to the public as a matter of information. Copies of the surveys and related field notes may be furnished to the public upon payment of the appropriate fees.

Dated: January 12, 2006.
David D. Morlan,
Chief Cadastral Surveyor, Nevada.

[FR Doc. E6-849 Filed 1-24-06; 8:45 am]

BILLING CODE 4310-HC-P